Title 3—

The President

Presidential Determination No. 2005-31 of August 2, 2005

Waiving Prohibition on U.S. Military Assistance with respect to Cambodia

Memorandum for the Secretary of State

Consistent with the authority vested in me by section 2007 of the American Servicemembers' Protection Act of 2002 (the “Act”), title II of Public Law 107-206 (22 U.S.C. 7421 et seq.), I hereby:

•

Determine that Cambodia has entered into an agreement with the United States pursuant to Article 98 of the Rome Statute preventing the International Criminal Court from proceeding against U.S. personnel present in such country; and

•

Waive the prohibition of section 2007(a) of the Act with respect to this country for as long as such agreement remains in force.

You are authorized and directed to report this determination to the Congress, and to arrange for its publication in the Federal Register.

B

THE WHITE HOUSE,

Washington, August 2, 2005.

[FR Doc. 05-15877

Filed 8-8-05; 9:05 am]

Billing code 4710-10-P